DEPARTMENT OF TRANSPORTATION

Federal Aviation Administration

14 CFR Part 39

[Docket No. FAA-2021-0618; Project Identifier 2019-CE-005-AD; Amendment 39-21676; AD 2021-16-14]

RIN 2120-AA64

Airworthiness Directives; BALÓNY KUBÍČEK spol. s r.o. Balloons

AGENCY: Federal Aviation Administration (FAA), DOT.

ACTION: Final rule; request for comments.

SUMMARY: The FAA is adopting a new airworthiness directive (AD) for certain BALÓNY KUBÍČEK spol. s r.o. Models BB78Z, BB85Z, BB92Z, and BB130P balloons. This AD was prompted by mandatory continuing airworthiness information (MCAI) issued by the aviation authority of another country to identify and correct an unsafe condition on an aviation product. The MCAI describes the unsafe condition as failure of the envelope vertical load tape. The FAA is issuing this AD to address the unsafe condition on these products.

DATES: This AD is effective September 7, 2021.

The FAA must receive comments on this AD by October 4, 2021.

ADDRESSES: You may send comments, using the procedures found in 14 CFR 11.43 and 11.45, by any of the following methods:

• Federal eRulemaking Portal: Go to https://www.regulations.gov. Follow the instructions for submitting comments.

• Fax: (202) 493-2251.

• Mail: U.S. Department of Transportation, Docket Operations, M-30, West Building Ground Floor, Room W12-140, 1200 New Jersey Avenue SE, Washington, DC 20590.

• Hand Delivery: Deliver to Mail address above between 9 a.m. and 5 p.m., Monday through Friday, except Federal holidays.

For service information identified in this final rule, contact BALÓNY KUBÍČEK spol. s r.o., Francouzská 8, 602 00 Brno, Czech Republic; phone: +420 545 422 620; fax: +420 545 422 621; email: info@kubicekballoons.cz; website: www.kubicekballoons.eu. You may view this service information at the FAA, Airworthiness Products Section, Operational Safety Branch, 901 Locust, Kansas City, MO 64106. For information on the availability of this material at the FAA, call (816) 329-4148. It is also available at https://www.regulations.gov by searching for and locating Docket No. FAA-2021-0618.

Examining the AD Docket

You may examine the AD docket at https://www.regulations.gov by searching for and locating Docket No. FAA-2021-0618; or in person at Docket Operations between 9 a.m. and 5 p.m., Monday through Friday, except Federal holidays. The AD docket contains this final rule, the MCAI, any comments received, and other information. The street address for the Docket Operations is listed above.

FOR FURTHER INFORMATION CONTACT: Mike Kiesov, Aviation Safety Engineer, General Aviation & Rotorcraft Section, International Validation Branch, FAA, 901 Locust, Room 301, Kansas City, MO 64106; phone: (816) 329-4144; fax: (816) 329-4090; email: mike.kiesov@faa.gov.

SUPPLEMENTARY INFORMATION:

Comments Invited

The FAA invites you to send any written data, views, or arguments about this final rule. Send your comments to an address listed under ADDRESSES. Include “Docket No. FAA-2021-0618 and Project Identifier 2019-CE-005-AD” at the beginning of your comments. The most helpful comments reference a specific portion of the final rule, explain the reason for any recommended change, and include supporting data. The FAA will consider all comments received by the closing date and may amend this final rule because of those comments.

Except for Confidential Business Information (CBI) as described in the following paragraph, and other information as described in 14 CFR 11.35, the FAA will post all comments received, without change, to https://www.regulations.gov, including any personal information you provide. The agency will also post a report summarizing each substantive verbal contact received about this final rule.

Confidential Business Information

CBI is commercial or financial information that is both customarily and actually treated as private by its owner. Under the Freedom of Information Act (FOIA) (5 U.S.C. 552), CBI is exempt from public disclosure. If your comments responsive to this AD contain commercial or financial information that is customarily treated as private, that you actually treat as private, and that is relevant or responsive to this AD, it is important that you clearly designate the submitted comments as CBI. Please mark each page of your submission containing CBI as “PROPIN.” The FAA will treat such marked submissions as confidential under the FOIA, and they will not be placed in the public docket of this AD. Submissions containing CBI should be sent to Mike Kiesov, Aviation Safety Engineer, General Aviation & Rotorcraft Section, International Validation Branch, FAA, 901 Locust, Room 301, Kansas City, MO 64106. Any commentary that the FAA receives which is not specifically designated as CBI will be placed in the public docket for this rulemaking.

Background

The European Aviation Safety Agency (EASA), which is the Technical Agent for the Member States of the European Union, has issued EASA AD 2018-0181, dated August 27, 2018 (referred to after this as “the MCAI”), to address an unsafe condition for certain serial-numbered BALÓNY KUBÍČEK spol. s r.o. Model BB78Z, BB85Z, BB92Z, and BB130P balloons. The MCAI states:

Investigation prompted by a BB hot air balloon accident revealed a failure of an envelope vertical load tape. It was determined that other balloon envelopes might be affected as well.

This condition, if not detected and corrected, could result in envelope tear, leading to an uncontrolled descent with consequent injury to balloon occupants and persons on the ground.

To address this unsafe condition, Balóny Kubíček spol. s r.o. issued the SB [Servis Bulletin No. BB/52], providing inspection instructions to detect a weaving defect on a load tape.

For the reason described above, this [EASA] AD requires a one-time inspection of all the load tapes and, depending on findings, repair of the balloon by replacing any load tape having a weaving defect.

You may examine the MCAI in the AD docket at https://www.regulations.gov by searching for and locating Docket No. FAA-2021-0618.

Related Service Information

The FAA reviewed BALÓNY KUBÍČEK spol. s r.o. Servis Bulletin No. BB/52, dated July 23, 2018. This service information includes an example of a weaving defect in the load tape and specifies acceptable materials and procedures for repairing load tapes with visible yellow thread.

FAA's Determination

This product has been approved by the aviation authority of another country, and is approved for operation in the United States. Pursuant to the FAA's bilateral agreement with this State of Design Authority, it has notified the FAA of the unsafe condition described in the MCAI and service information referenced above. The FAA is issuing this AD because it has determined the unsafe condition described previously is likely to exist or develop on other products of the same type design.

AD Requirements

This AD requires inspecting the envelope load tape and repairing any envelope load tape having a weaving defect.

Justification for Immediate Adoption and Determination of the Effective Date

Section 553(b)(3)(B) of the Administrative Procedure Act (APA) (5 U.S.C. 551 et seq.) authorizes agencies to dispense with notice and comment procedures for rules when the agency, for “good cause,” finds that those procedures are “impracticable, unnecessary, or contrary to the public interest.” Under this section, an agency, upon finding good cause, may issue a final rule without providing notice and seeking comment prior to issuance. Further, section 553(d) of the APA authorizes agencies to make rules effective in less than thirty days, upon a finding of good cause.

The FAA has found that the risk to the flying public justifies waiving notice and comment prior to adoption of this rule because there are no balloons currently on the U.S. registry and thus, it is unlikely that the FAA will receive any adverse comments or useful information about this AD from U.S. operators. Accordingly, notice and opportunity for prior public comment are unnecessary pursuant to 5 U.S.C. 553(b)(3)(B). In addition, the FAA finds that good cause exists pursuant to 5 U.S.C. 553(d) for making this amendment effective in less than 30 days for the same reasons the FAA found good cause to forego notice and comment.

Costs of Compliance

There are currently no affected products on the U.S. registry. In the event an affected balloon becomes a U.S.-registered balloon, the following is an estimate of the costs to comply with this AD.

The FAA estimates that it would take 1 work-hour per balloon to comply with the inspection required by this AD. The average labor rate is $85 per work-hour. Based on these figures, the FAA estimates the cost of this AD to be $85 per balloon.

In addition, the FAA estimates that repairing the envelope load tape, if necessary, would take 10 work-hours and require parts costing $200 for a cost of $1,050 per balloon.

Authority for This Rulemaking

Title 49 of the United States Code specifies the FAA's authority to issue rules on aviation safety. Subtitle I, section 106, describes the authority of the FAA Administrator. Subtitle VII: Aviation Programs describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Flexibility Act

The requirements of the Regulatory Flexibility Act (RFA) do not apply when an agency finds good cause pursuant to 5 U.S.C. 553 to adopt a rule without prior notice and comment. Because FAA has determined that it has good cause to adopt this rule without prior notice and comment, RFA analysis is not required.

Regulatory Findings

The FAA determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866, and

(2) Will not affect intrastate aviation in Alaska.

List of Subjects in 14 CFR Part 39

Air transportation, Aircraft, Aviation safety, Incorporation by reference, Safety.

The Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

2021-16-14 BALÓNY KUBÍČEK spol. s r.o.: Amendment 39-21676; Docket No. FAA-2021-0618; Project Identifier 2019-CE-005-AD.

(a) Effective Date

This airworthiness directive (AD) is effective September 7, 2021.

(b) Affected ADs

None.

(c) Applicability

This AD applies to the following BALÓNY KUBÍČEK spol. s r.o. balloons, certificated in any category:

(1) Model BB78Z, serial numbers (S/Ns) 1292 and 1364;

(2) Model BB85Z, S/N 1360;

(3) Model BB92Z, S/N 1331; and

(4) Model BB130P, S/N 1397.

(d) Subject

Joint Aircraft System Component (JASC) Code 5300, Fuselage.

(e) Unsafe Condition

This AD was prompted by mandatory continuing airworthiness information (MCAI) issued by the aviation authority of another country to identify and correct an unsafe condition on an aviation product. The MCAI describes the unsafe condition as failure of the envelope vertical load tape. The FAA is issuing this AD to detect and correct defects in the envelope vertical load tape, which could result in an envelope tear and consequent uncontrolled descent.

(f) Compliance

Comply with this AD within the compliance times specified, unless already done.

(g) Inspection and Repair

Within 30 days after the effective date of this AD, inspect the envelope load tape for weaving defects indicated by visible yellow thread. If there is visible yellow thread in any envelope load tape, before further flight, repair any damaged area of the envelope load tape.

Note 1 to paragraph (g): BALÓNY KUBÍČEK spol. s r.o. Servis Bulletin No. BB/52, dated July 23, 2018, includes an example of a weaving defect and specifies acceptable procedures and materials for repairing envelope load tape.

(h) Alternative Methods of Compliance (AMOCs)

(1) The Manager, International Validation Branch, FAA, has the authority to approve AMOCs for this AD, if requested using the procedures found in 14 CFR 39.19. In accordance with 14 CFR 39.19, send your request to your principal inspector or local Flight Standards District Office, as appropriate. If sending information directly to the manager of the certification office, send it to the attention of the person identified in Related Information, paragraph (i)(1) of this AD or email 9-AVS-AIR-730-AMOC@faa.gov.

(2) Before using any approved AMOC, notify your appropriate principal inspector, or lacking a principal inspector, the manager of the local flight standards district office/certificate holding district office.

(i) Related Information

(1) For more information about this AD, contact Mike Kiesov, Aviation Safety Engineer, General Aviation & Rotorcraft Section, International Validation Branch, FAA, 901 Locust, Room 301, Kansas City, MO 64106; phone: (816) 329-4144; fax: (816) 329-4090; email: mike.kiesov@faa.gov.

(2) Refer to European Aviation Safety Agency (EASA) AD 2018-0181, dated August 27, 2018, for more information. You may examine the EASA AD in the AD docket at https://www.regulations.gov by searching for and locating it in Docket No.

(j) Material Incorporated by Reference

None.

Issued on August 5, 2021.
Lance T. Gant,
Director, Compliance & Airworthiness Division, Aircraft Certification Service.

[FR Doc. 2021-17604 Filed 8-17-21; 8:45 am]

BILLING CODE 4910-13-P